SECURITIES AND EXCHANGE COMMISSION

Sunshine Act Meeting

Notice is hereby given, pursuant to the provisions of the Government in the Sunshine Act, Pub. L. 94-409, that the Securities and Exchange Commission held the following additional meetings during the week of February 25, 2002:

Closed meetings were held on Thursday, February 28, 2002 at 5:45 p.m., and Friday, March 1, 2002 at 4:00 p.m.

Commissioner Glassman, as duty officer, determined that no earlier notice thereof was possible.

Commissioners, Counsel to the Commissioners, the Secretary to the Commission, and recording secretaries attended the closed meetings. Certain staff members who had an interest in the matter were also present.

The General Counsel of the Commission, or his designee, has certified that, in his opinion, one or more of the exemptions set forth in 5 U.S.C. 552b(c)(5), (7), (9)(A), (9)(B), and (10) and 17 CFR 200.402(a)(5), (7), 9(i), 9(ii) and (10), permit consideration of the scheduled matter at the closed meetings.

The subject matter of the closed meetings held on Thursday, February 28, 2002 and Friday, March 1, 2002 was:

Regulatory matter concerning financial markets.

At times, changes in Commission priorities require alterations in the scheduling of meeting items. For further information and to ascertain what, if any, matters have been added, deleted or postponed, please contact:

The Office of the Secretary at (202) 942-7070.

Dated: March 6, 2002.
Jonathan G. Katz,
Secretary.

[FR Doc. 02-5927 Filed 3-7-02; 4:19 pm]

BILLING CODE 8010-01-P